DEPARTMENT OF TRANSPORTATION

Federal Aviation Administration

Notice of Passenger Facility Charge (PFC) Approvals and Disapprovals

AGENCY: Federal Aviation Administration (FAA), DOT.

ACTION: Monthly Notice of PFC Approvals and Disapprovals. In January 2001, there were 10 applications approved. This notice also includes information on one application, approved in December 2000, inadvertently left off the December 2000 notice. Additionally, 40 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph d of § 158.29.

PFC Applications Approved

Public Agency: Airport Authority of Calcasieu Parish, Lake Charles, Louisiana.

Application Number: 01-01-C-00-LCH.

Application Type: Impose and use a PFC.

PFC Level: $3.00.

Total PFC Revenue Approved in This Decision: $4,251,977.

Earliest Charge Effective Date: March 1, 2001.

Estimated Charge Expiration Date: March 1, 2001.

Class of Air Carriers Not Required to Collect PFC's: Part 135 on-demand air taxi/commercial operators.

Determination: Approved. Based on information contained in the public agency's application, the FAA has determined that the approved class accounts for less than 1 percent of the total annual enplanements at Lake Charles Regional Airport.

Brief Description of Projects Approved for Collection and Use:

Terminal improvement.

Expand terminal public parking.

Renovate aircraft rescue and firefighting facility.

Security fencing at general aviation area.

1997 terminal improvement.

Professional fees of PFC application preparation.

Decision Date: December 21, 2000.

FOR FURTHER INFORMATION CONTACT: G. Thomas Wade, Southwest Region Airports Division, (817) 222-5613.

Public Agency: Savannah Airport Commission, Savannah Georgia.

Application Number: 00-04-C-00-SAV.

Application Type: Impose and use a PFC.

PFC Level: $4.50.

Total PFC Revenue Approved in This Decision: $4,223,048.

Earliest Charge Effective Date: July 1, 2011.

Estimated Charge Expiration Date: July 1, 2012.

Class of Air Carriers Not Required to Collect PFC's: All air taxi/commercial operators filing or required to file FAA Form 1800-31.

Determination: Approved. Based on information submitted in the public agency's application, the FAA has determined that the approved class accounts for less than 1 percent of the total annual enplanements at Savannah International Airport.

Brief Description of Projects Approved for Collection and Use:

Sweeper.

Six loading bridges.

Airfield lighting control.

Extend general aviation taxiway number 2.

Cross connector taxiway.

Access road southwest quadrant.

Buildout gates 9 and 10.

Escalator number 2.

Elevator at 5A.

Cargo apron.

Terminal apron.

PFC development, implementation, and administration.

Decision Date: January 3, 2001.

FOR FURTHER INFORMATION CONTACT: Daniel Gaetan, Atlanta Airports District Office, (404) 305-7146.

Public Agency: Port of Seattle, Seattle, Washington.

Application Number: 01-05-U-00-SEA.

Application Type: Use PFC revenue.

PFC Level: $3.00.

Total PFC Revenue To Be Used in This Decision: $40,618,000.

Charge Effective Date: January 1, 2004.

Estimated Charge Expiration Date: September 1, 2021.

Class of Air Carriers Not Required to Collect PFC's: No change from previous decision.

Brief Description of Projects Approved for Use:

Security system upgrade.

Airfield pavement and infrastructure improvements: taxiway pavement replacement; transitional navigation aids and lighting system; and apron pavement replacement.

Decision Date: January 17, 2001.

FOR FURTHER INFORMATION CONTACT: Suzanne Lee-Pang, Seattle Airports District Office, (425) 227-2654.

Public Agency: County of Gunnison, Gunnison, Colorado.

Application Number: 01-03-C-00-GUC.

Application Type: Impose and use a PFC.

PFC Level: $4.50.

Total PFC Revenue Approved in This Decision: $480,667.

Earliest Charge Effective Date: March 1, 2004.

Estimated Charge Expiration Date: April 1, 2006.

Class of Air Carriers Not Required to Collect PFC's: None.

Brief Description of Projects Approved for Collection and Use:

Land acquisition (Wilson property).

Land acquisition (Bratton property).

Perimeter fencing.

Aircraft rescue and firefighting vehicle.

Design for group D-IV safety area standards.

Design and construction of the 1-Bar Road.

Brief Description of Projects Withdrawn:

Gold Basin road relocation.

Runway and taxiway shift (phase 1).

Wetlands mitigation.

Determination: These projects were withdrawn by the public agency in its letter dated October 31, 2000. Therefore, the FAA did not rule on these projects in this decision.

Decision Date: January 19, 2001.

FOR FURTHER INFORMATION CONTACT: Chris Schaffer, Denver Airports District Office, (303) 342-1258.

Public Agency: County of Outagamie, Appleton, Wisconsin.

Application Number: 00-04-C-00-ATW.

Application Type: Impose and use a PFC.

PFC Level: $3.00.

Total PFC Revenue To Be Used in This Decision: $5,891,467.

Earliest Charge Effective Date: May 1, 2001.

Estimated Charge Expiration Date: March 1, 2008.

Class of Air Carriers Not Required to Collect PFC's: None.

Brief Description of Projects Approved for Collection and Use:

Terminal building expansion.

Master plan update.

Acquire snow removal equipment.

FOR FURTHER INFORMATION CONTACT: Sandra E. DePottey, Minneapolis Airports District Office, (612) 713-4363.

Public Agency: Jacksonville Port Authority, Jacksonville, Florida.

Application Number: 00-06-U-00-JAX.

Application Type: Use PFC revenue.

PFC Level: $3.00.

Total PFC Revenue To Be Used in This Decision: $5,584,454.

Charge Effective Date: August 1, 1996.

Estimated Charge Expiration Date: June 1, 1999.

Class of Air Carriers Not Required to Collect PFC's: No change from previous decision.

Brief Description of Projects Approved for Collection and Use: Taxiway improvement for runways 5/23 and ­14/32.

Decision Date: January 29, 2001.

FOR FURTHER INFORMATION CONTACT: Richard M. Owen, Orlando Airports District Office, (407) 812-6331, extension 19.

Public Agency: Jacksonville Port Authority, Jacksonville, Florida.

Application Number: 01-07-C-00-JAX.

Application Type: Impose and use a PFC.

PFC Level: $3.00.

Total PFC Revenue Approved in This Decision: $28,181,513.

Earliest Charge Effective Date: July 1, 2001.

Estimated Charge Expiration Date: June 1, 2004.

Class of Air Carriers Not Required to Collect PFC'S: Air taxi/commercial operators filing FAA Form 1800-31.

Determination: Approved. Based on information contained in the public agency's application, the FAA has determined that the approved class accounts for less than 1 percent of the total annual enplanements at Jacksonville International Airport.

Brief Description of Project Approved for Collection and Use: Renovation and expansion of landside terminal area, stage 1.

Decision Date: January 29, 2001.

FOR FURTHER INFORMATION CONTACT: Richard M. Owen, Orlando Airports District Office, (407) 812-6331, extension 19.

Public Agency: City of Stracuse Department of Aviation, Syracuse, New York.

Application Number: 01-04-I-00-SYR.

Application Type: Impose a PFC.

PFC Level: $3.00.

Total PFC Revenue Approved in This Decision: $3,018,210.

Earliest Charge Effective Date: April 1, 2001.

Estimated Charge Expiration Date: February 1, 2002.

Class of Air Carriers not Required to Collect PFC'S: Air taxi/commercial operators filing FAA Form 1800-31.

Determination: Approved. Based on information contained in the public agency's application, the FAA has determined that the approved class accounts for less than 1 percent of the total annual enplanements at Syracuse-Hancock International Airport.

Brief Description of Project Approved for Collection: Taxiway A rehabilitation.

Decision Date: January 29, 2001.

FOR FURTHER INFORMATION CONTACT: Philip Brito, New York Airports District Office, (516) 227-3800.

Public Agency: City and County of Denver, Denver, Colorado.

Application Number: 00-02-C-00-DEN.

Application Type: Impose and use a PFC.

PFC Level: $4.50.

Total PFC Revenue Approved in This Decision: $211,990,000.

Earliest Charge Effective Date: September 1, 2030.

Class of Air Carriers Not Required to Collect PFC'S: Dedicated air ambulances.

Determination: Approved. Based on information contained in the public agency's application, the FAA has determined that the approved class accounts for less than 1 percent of the total annual enplanements at Denver International Airport.

Brief Description of Projects Approved for Collection and Use at a $4.50 PFC Level:

Runway 16R/34L.

Industrial waste containment facilities.

Construction of taxiway EA.

Construction of C-2 deicing pad.

Brief Description of Project Approved for Collection and Use at a $3.00 PFC Level: Terminal module 3E build out public and non-exclusive systems.

Brief Description of Projects Approved for Collection at a $4.50 PFC Level:

Industrial waste management system—cargo area connection.

Taxiway L (AA-EA) grading, paving, lighting, and marking.

Concourse A east deicing/penalty box.

Concourse A expansion of public areas.

Automated ground transportation system (AGTS)—new cars.

Six additional gates.

Brief Description of Project Approved for Collection at a $3.00 PFC Level: Common use terminal equipment.

Brief Description of Project Disapproved: AGTS maintenance facility expansion.

Determination: Disapproved. The FAA has determined that maintenance of airport facilities is not eligible under the Airport Improvements Program (AIP), paragraph 501 and Item 10 of Appendix 2 of FAA Order 5100/38A, AIP Handbook (October 24, 1989). Therefore, buildings for the purpose of maintaining airport facilities are not AIP eligible. Thus, the FAA determined that this project did not meet the requirements of § 158.15(b).

Brief Description of Withdrawn Project: Central terminal automation system center—terminal automated system.

Determination: This project was withdrawn from the application by the public agency in its letter dated January 26, 2001. Therefore, the FAA did not rule on this project in this decision.

Decision Date: January 30, 2001.

FOR FURTHER INFORMATION CONTACT: Chris Schaffer, Denver Airports District Office, (303) 342-1258.

Public Agency: Lafayette Airport Commission, Lafayette, Louisiana.

Application Number: 01-03-C-00-LFT.

Application Type: Impose and use a PFC.

PFC Level: $3.00.

Total PFC Revenue Approved in This Decision: $2,323,000.

Earliest Charge Effective Date: April 1, 2001.

Estimated Charge Expiration Date: April 1, 2004.

Class of Air Carriers Not Required to Collect PFC'S: Air taxi/commercial operators filing FAA Form 1800-31.

Determination: Approved. Based on information contained in the public agency's application, the FAA has determined that the approved class accounts for less than 1 percent of the total annual enplanements at Lafayette Regional Airport.

Brief Description of Projects approved for Collection and Use:

Widen and rehabilitate taxiway L.

PFC development, implementation, and administration.

Decision Date: January 30, 2001.

FOR FURTHER INFORMATION CONTACT: G. Thomas Wade, Southwest Region Airports Division, (817) 222-5613.

Public Agency: Benedum Airport Authority, Bridgeport, West Virginia.

Application Number: 01-02-C-00-CKB.

Application Type: Impose and use a PFC.

PFC Level: $4.50.

Total PFC Revenue Approved in This Decision: $162,334.

Earliest Charge Effective Date: April 1, 2001.

Estimated Charge Expiration Date: February 1, 2003.

Class of Air Carriers Not Required to Collect PFC'S: None.

Brief Description of Projects Approved for Collection and Use:

Rehabilitate terminal/fixed base operator ramp and taxiway radius widening.

Perimeter fencing.

Foreign object debris removal equipment.

Snow removal equipment.

Master plan update.

Rehabilitate taxiways A, B, C, D, and E.

Decision Date: January 30, 2001.

FOR FURTHER INFORMATION CONTACT: Larry Clark, Beckley Airports Field Office, (304) 252-6216.

Amendments to PFC Approvals

Amendment No., city, state | Amendment approved date | Original approved net PFC revenue | Amended approved net PFC revenue | Original estimated charge exp. date | Amended estimated charge exp. date
99-03-C-01-CLL, College Station, TX* | 11/22/00 | $951,400 | $951,400 | 05/01/04 | 09/01/02
97-01-C-01-SBA, Santa Barbara, CA | 12/17/00 | 2,572,182 | 2,530,182 | 01/01/02 | 01/01/02
95-01-C-03-LFT, Lafayette, LA | 12/27/00 | 1,491,900 | 1,083,024 | 09/01/98 | 09/01/98
97-03-C-01-MIA, Miami, FL | 12/28/00 | 296,167,000 | 253,011,000 | 07/01/05 | 01/01/05
92-01-I-06-SRQ, Sarasota, FL | 12/28/00 | 21,287,893 | 21,287,893 | 01/01/01 | 01/01/01
95-03-C-03-SRQ, Sarasota, FL | 12/28/00 | 1,100,000 | 1,100,000 | 04/01/02 | 04/01/02
98-03-C-01-ATW, Appleton, WI | 01/02/01 | 3,909,000 | 3,159,000 | 06/01/03 | 05/01/01
94-01-C-01-DLH, Duluth, MN | 01/04/01 | 562,248 | 548,296 | 10/01/96 | 09/01/96
96-02-C-01-DLH, Duluth, MN | 01/04/01 | 775,332 | 552,215 | 05/01/99 | 09/01/98
99-03-C-01-DLH, Duluth, MN | 01/04/01 | 561,879 | 589,989 | 07/01/01 | 05/01/00
00-03-C-01-IDA, Idaho Falls, ID* | 01/12/01 | 2,640,000 | 8,950,000 | 09/01/09 | 07/01/20
99-01-C-01-LMT, Klamath Falls, OR* | 01/12/01 | 426,374 | 426,374 | 11/01/04 | 05/01/03
93-01-C-02-IND, Indianapolis, IN | 01/17/01 | 78,386,441 | 68,562,881 | 11/01/01 | 11/01/00
96-02-C-01-IND, Indianapolis, IN* | 01/17/01 | 36,622,175 | 21,275,922 | 06/01/04 | 04/01/02
92-01-C-04-MEI, Meridian, MS | 01/18/01 | 140,875 | 138,669 | 06/01/94 | 06/01/94
98-01-C-01-XNA, Bentonville, AR* | 01/19/01 | 125,775,332 | 125,552,215 | 03/01/49 | 06/01/40
98-02-C-01-GUC, Gunnison, CO | 01/24/01 | 619,631 | 183,754 | 03/01/04 | 04/01/01
92-01-C-01-MSP, Minneapolis, MN | 01/24/01 | 66,355,682 | 92,714,464 | 08/01/94 | 08/01/95
94-02-C-03-MSP, Minneapolis, MN | 01/24/01 | 126,222,000 | 140,778,569 | 01/01/00 | 03/01/99
93-01-C-11-ORD, Chicago, IL* | 01/25/01 | 1,129,865,761 | 1,014,808,714 | 11/01/11 | 12/01/05
94-02-U-06-ORD, Chicago, IL* | 01/25/01 | NA | NA | 11/01/11 | 12/01/05
95-03-C-03-ORD, Chicago, IL* | 01/25/01 | NA | NA | 11/01/11 | 12/01/05
96-05-C-04-ORD, Chicago, IL* | 01/25/01 | NA | NA | 11/01/11 | 12/01/05
98-04-C-01-MSP, Minneapolis, MN* | 01/25/01 | 55,460,000 | 55,471,897 | 06/01/01 | 05/01/01
00-05-C-01-LSE, La Crosse, WI* | 01/25/01 | 689,028 | 689,028 | 04/01/03 | 08/01/02
94-01-C-02-BMI, Bloomington, IL* | 01/26/01 | 6,276,132 | 6,276,132 | 12/01/10 | 11/01/03
97-02-C-02-BMI, Bloomington, IL* | 01/26/01 | 21,894,432 | 21,808,432 | 12/01/10 | 10/01/17
00-05-C-01-MSP, Minneapolis, MN* | 01/26/01 | 106,873,838 | 106,873,838 | 03/01/03 | 12/01/02
99-02-C-01-MSO, Missoula, MT* | 01/26/01 | 1,985,000 | 1,985,000 | 08/01/03 | 06/01/02
99-02-C-01-MSO, Missoula, MT* | 01/26/01 | 1,500,000 | 1,500,000 | 06/01/06 | 02/01/04
98-05-C-01-GFK, Grand Forks, ND* | 01/26/01 | 1,398,163 | 1,398,163 | 09/01/04 | 06/01/03
99-05-C-02-MFR, Medford, OR* | 01/26/01 | 1,672,962 | 1,672,962 | 08/01/04 | 02/01/03
96-02-C-01-SLC, Salt Lake City, UT* | 01/29/01 | 66,291,558 | 61,882,646 | 09/01/01 | 07/01/01
99-04-C-01-CPR, Casper, WY* | 01/29/01 | 471,251 | 471,251 | 05/01/04 | 06/01/03
98-06-I-01-SJC, San Jose, CA* | 01/30/01 | 35,000,000 | 35,000,000 | 02/01/01 | 07/01/01
99-07-C-01-SJC, San Jose, CA* | 01/30/01 | 12,950,000 | 12,950,000 | 07/01/02 | 01/01/02
99-08-C-01-SJC, San Jose, CA* | 01/30/01 | 23,598,000 | 23,598,000 | 09/01/03 | 11/01/02
98-07-I-02-PHL, Philadelphia, PA* | 01/30/01 | 672,000,000 | 672,000,000 | 07/01/11 | 07/01/07
99-08-U-01-PHL, Philadelphia, PA* | 01/30/01 | NA | NA | 07/01/11 | 07/01/07
Note: The amendments denoted by an asterisk (*) include a change to the PFC level charged from $3.00 per enplaned passenger to $4.50 per enplaned passenger. For all of the locations listed above as being approved to change the charge level, this change is effective on April 1, 2001.

Issued in Washington, DC, on February 21, 2001.
Eric Gabler,
Manager, Passenger Facility Charge Branch.

[FR Doc. 01-5025 Filed 3-1-01; 8:45 am]

BILLING CODE 4910-13-M